DEPARTMENT OF AGRICULTURE

Rural Utilities Service

Basin Electric Power Cooperative: Deer Creek Station

AGENCY: Rural Utilities Service, USDA.

ACTION: Notice of Availability of Final Environmental Impact Statement.

SUMMARY: The Rural Utilities Service (RUS) and the Western Area Power Administration (Western) have issued a Final Environmental Impact Statement (EIS) for the proposed Deer Creek Station project in Brookings and Duel Counties, South Dakota. The Final EIS was prepared pursuant to the National Environmental Policy Act of 1969 (NEPA) (U.S.C. 4231 et seq.) in accordance with the Council on Environmental Quality (CEQ) regulations for implementing the procedural provisions of NEPA (40 CFR parts 1500-1508), RUS's NEPA implementing regulations (7 CFR part 1794), and Western's NEPA implementing regulations (10 CFR part 1021). Western is the lead federal agency as defined at 40 CFR 1501.5; RUS is a cooperating agency. The purpose of the Final EIS is to evaluate the potential environmental impacts of and alternatives to Basin Electric Power Cooperative's (Basin Electric) application for a RUS loan and a Western interconnection agreement to construct the proposed 300 megawatt (MW) Deer Creek Station in Brookings and Deuel Counties, South Dakota (Project). The proposed facility would include a new natural gas-fired combustion turbine set, a heat recovery steam generator (HRSG), and a steam turbine generator set.

DATES: Written comments on this Final EIS will be accepted on or before June 28, 2010, following the publication of the U.S. Environmental Protection Agency's notice of availability for this FEIS in the Federal Register.

ADDRESSES: To obtain copies of the Final EIS or further information, contact: Ms. Lauren McGee, Environmental Scientist, USDA, Rural Utilities Service, 1400 Independence Avenue, SW., Stop 1571, Room 2239-S, Washington, DC 20250-1571, telephone: (202) 720-1482, fax: (202) 690-0649, or e-mail: lauren.mcgee@wdc.usda.gov.

A copy of the Final EIS has been sent to affected federal, state, and local government agencies and to interested parties and can be viewed online at: http://www.usda.gov/rus/water/ees/eis.htm.

Copies of the Final EIS will also be available for public review at the following locations (hours vary; contact individual repositories for available times):

Brookings Public Library 515 3rd Street Brookings, SD; telephone: (605) 692-9407

SDSU Hilton M. Briggs Library, South Dakota State University, Brookings, SD; telephone: (605) 688-5570.

Deubrook Community Library, 100 School Avenue, White, SD.

Elkton City Hall, Elkton, SD.

Siverson Public Library, 100 W. Garfield, Hendricks, MN.

Brookings County Commission Office, 314 6th Avenue, Brookings, SD.

SUPPLEMENTARY INFORMATION: Basin Electric's proposed Project is to construct, own, operate, and maintain the Deer Creek Station Energy Facility, a 300 MW combined-cycle natural gas generation facility, water pipeline, transmission lines, transmission interconnection(s), and other associated facilities in Brookings and Deuel counties in eastern South Dakota. The purpose for the proposed Project is to serve increased load demand for electric power in the eastern portion of Basin Electric's service area. In 2007, Basin Electric prepared a forecast showing load and capability surpluses/deficits through the year 2021. The forecast predicted that by 2014, there will be a deficit of 800-900 MW for the eastern portion of its service area. The proposed Project's addition of 300 MW of generation will help meet Basin Electric's future energy requirements.

On February 6, 2009, Western published in the Federal Register a Notice of Intent to prepare an EIS for the Deer Creek Station. The EIS focused on potential impacts to the following resources: soils, topography and geology, water resources, air quality, biological resources, the acoustic environment, recreation, cultural and historic resources, visual resources, transportation, farmland, land use, human health and safety, the socioeconomic environment, environmental justice, and cumulative effects. On February 26, 2010, the Rural Utilities Service published its Notice of Availability of the Draft EIS for the proposed project in the Federal Register. The U.S. Environmental Protection Agency acknowledged receipt of the Draft EIS on February 5, 2010, from Western. The 45-day comment period ended on March 22, 2010. Because few comments were received which did not result in the substantial modification of the alternatives or the environmental analysis in the Draft EIS, Western and RUS prepared an abbreviated Final EIS to address the comments received.

Basin Electric's proposed Project is subject to the jurisdiction of the South Dakota Public Utilities Commission (SDPUC) which has regulatory authority for siting power plants and transmission lines within the State. Basin Electric will submit an application for an Energy Conversion Facility Permit and a Route Permit to the SDPUC. The SDPUC permits would authorize Basin Electric to construct the proposed Project under South Dakota rules and regulations.

After considering various ways to meet these future needs, Basin Electric identified construction of the proposed Project as its best course of action. This EIS considered 17 alternatives to meet the future energy requirements of the eastern portion of its service area. These alternatives were evaluated in terms of cost-effectiveness, technical feasibility, and environmental factors.

The EIS analyzes in detail the no action alternative and the proposed action (Deer Creek station and related facilities) at two separate locations: White Site I (Brookings County, T111N R48W, Section 25 NE Quarter) and White Site II (Brookings County, T111N R48W, Section 2 NW Quarter). The proposed action at White Site I has been identified as the preferred alternative.

Because the proposed Project may involve action in floodplains or wetlands, this Notice of Availability also serves as a notice of proposed floodplain or wetland action. The EIS includes a floodplain/wetland assessment and floodplain/wetland statement of findings.

Any action by RUS related to the proposed Project will be subject to, and contingent upon, compliance with all relevant Federal, state and local environmental laws and regulations, and completion of the environmental review requirements as prescribed in RUS's Environmental Policies and Procedures, 7 CFR part 1794, as amended.

Dated: June 7, 2010.
James F. Elliott,
Acting Deputy Assistant Administrator, Electric Programs, Rural Utilities Service.

[FR Doc. 2010-14020 Filed 6-10-10; 8:45 am]

BILLING CODE P